ENVIRONMENTAL PROTECTION AGENCY

[FRL-7525-6]

Notice of Scientific and Technological Achievement Awards Subcommittee; Closed Meeting

AGENCY: Environmental Protection Agency (EPA).

ACTION: Notice.

SUMMARY: The Environmental Protection Agency (EPA), Science Advisory Board (SAB) announces a closed meeting of the Scientific and Technological Achievement Awards Subcommittee to recommend to the Assistant Administrator of the Office of Research and Development (ORD) the recipients of the Agency's 2003 Scientific and Technological Achievement Cash Awards.

DATES: This closed meeting will take place on August 5-7, 2003.

ADDRESSES: This closed meeting will take place at the U.S. Environmental Protection Agency (EPA), Washington, DC, 1200 Pennsylvania Ave, NW., Washington, DC 20460.

FOR FURTHER INFORMATION CONTACT: Any member of the public wishing further information regarding this announcement may contact Ms. Kathleen White, Designated Federal Officer, U.S. EPA Science Advisory Board (1400A), U.S. Environmental Protection Agency, 1200 Pennsylvania Ave, NW., Washington, DC 20460, telephone: (202) 564-4559 or e-mail at: white.kathleen@epa.gov. General information about the SAB can be found in the SAB Web site at http://www.epa.gov/sab

SUPPLEMENTARY INFORMATION: Summary: Pursuant to section 10(d) of the Federal Advisory Committee Act (FACA), 5 U.S.C. App.2, and section (c)(6) of the Government in the Sunshine Act, 5 U.S.C. 552b(c)(6) EPA has determined that the meeting will be closed to the public. The purpose of the meeting is to recommend to the Assistant Administrator of the Office of Research and Development (ORD) the recipients of the Agency's 2003 Scientific and Technological Achievement Cash Awards. These awards are established to honor and recognize EPA employees who have made outstanding contributions in the advancement of science and technology through their research and development activities, as exhibited in publication of their results in peer reviewed journals. In making these recommendations, including the actual cash amount of each award, the Agency requires full and frank advice from the EPA Science Advisory Board. This advice will involve professional judgments on the relative merits of various employees and their respective work. Such personnel issues, where disclosure of information of a personal nature would constitute an unwarranted invasion of personal privacy, are protected from disclosure by section (c)(6) of the Government in the Sunshine Act, 5 U.S.C. 552b(c)(6). In accordance with the provisions of the Federal Advisory Committee Act, minutes of the meeting will be kept for Agency and Congressional review.

Dated: June 20, 2003.
Christine Todd Whitman,
Administrator.

[FR Doc. 03-17341 Filed 7-8-03; 8:45 am]

BILLING CODE 6560-52-P